FEDERAL MARITIME COMMISSION

Ocean Transportation Intermediary License Reissuances

Notice is hereby given that the following Ocean Transportation Intermediary licenses have been reissued by the Federal Maritime Commission pursuant to section 19 of the Shipping Act of 1984 (46 U.S.C. Chapter 409) and the regulations of the Commission pertaining to the licensing of Ocean Transportation Intermediaries, 46 CFR part 515.

License no. | Name/Address | Date reissued
019748N | Newskin Express, Inc., 400 Crenshaw Blvd., Suite 109, Torrance, CA 90503 | November 18, 2009.
019791N | Ruky International Company, 149 Isabelle Street, Metuchen, NJ 08840 | September 14, 2009.
003081N | SMS Express Company, Inc., dba DYNA Freight Inc., 2415 So. Sequoia Drive, Compton, CA 90220 | October 29, 2009.

Sandra L. Kusumoto,
Director, Bureau of Certification and Licensing.

[FR Doc. E9-29993 Filed 12-16-09; 8:45 am]

BILLING CODE P